DEPARTMENT OF DEFENSE

Defense Acquisition Regulations System

48 CFR Parts 211, 213, 242, 245, and 252

[Docket DARS-2018-0001]

Defense Federal Acquisition Regulation Supplement: Technical Amendments

AGENCY: Defense Acquisition Regulations System, Department of Defense (DoD).

ACTION: Final rule.

SUMMARY: DoD is making technical amendments to the Defense Federal Acquisition Regulation Supplement (DFARS) to provide needed editorial changes.

DATES: Effective March 23, 2018.

FOR FURTHER INFORMATION CONTACT: Ms. Jennifer L. Hawes, Defense Acquisition Regulations System, OUSD(AT&L)DPAP(DARS), Room 3B941, 3060 Defense Pentagon, Washington, DC 20301-3060. Telephone 571-372-6115; facsimile 571-372-6094.

SUPPLEMENTARY INFORMATION: This final rule amends the DFARS as follows:

1. Updates links to a website referenced in DFARS 211.275-2 and 252.211-7006.

2. Updates DFARS 213.106-2 and DFARS 252.213-7000 to reference the “Supplier Performance Risk System (SPRS)” in lieu of the “Past Performance Information Retrieval System (PPIRS-SR)” and to provide updates links to websites.

3. Updates organizational names in three places at DFARS 242.002.

4. Amends DFARS 245.103-74 by removing “PGI 245.103-73” and adding “PGI 245.103-74” in its place.

List of Subjects in 48 CFR Parts 211, 213, 242, 245, and 252

Government procurement.

Jennifer L. Hawes,
Regulatory Control Officer, Defense Acquisition Regulations System.

Therefore, 48 CFR parts 211, 213, 242, 245, and 252 are amended as follows:

1. The authority citations for 48 CFR parts 211, 213, 242, 245, and 252 continue to read as follows:

Authority: 41 U.S.C. 1303 and 48 CFR chapter 1.

PART 211—DESCRIBING AGENCY NEEDS

211.275-2 [Amended]

2. Amend section 211.275-2(a)(2) introductory text by removing “http://www.acq.osd.mil/log/sci/RFID_ship-to-locations.html” and adding “https://www.acq.osd.mil/log/sci/RFID_ship-to-locations.html” in its place.

PART 213—SIMPLIFIED ACQUISITION PROCEDURES

213.106-2 [Amended]

3. Amend section 213.106-2 by—

a. In paragraph (b)(i)(A)—

i. Removing “Past Performance Information Retrieval System (PPIRS-SR)” and adding “Supplier Performance Risk System (SPRS)” in its place;

ii. Removing “PPIRS-SR” and adding “SPRS” wherever it appears in the second sentence; and

iii. Removing “www.ppirs.gov” and adding “https://www.ppirssrng.csd.disa.mil” in its place; and

b. In paragraphs (b)(i)(B) and (b)(i)(C), removing “PPIRS-SR” and adding “SPRS” in both places.

PART 242—CONTRACT ADMINISTRATION AND AUDIT SERVICES

4. Amend section 242.002 by—

a. Revising paragraph (b)(i)(C);

b. In paragraph (S-70)(ii), removing “Supply and Services Canada (SSC)” and adding “PWGSC, operating as PSPC,” in its place; and

c. In paragraph (S-70)(iii), removing “SSC” and adding “PSPC” in its place.

The revision reads as follows:

242.002 Interagency agreements.

(b)(i) * * *

(C) Quality assurance requests performed for the Canadian Department of National Defence and pricing services performed for Public Works and Government Services Canada (PWGSC), operating as Public Services and Procurment Canada (PSPC).

* * * * *

PART 245—GOVERNMENT PROPERTY

245.103-74 [Amended]

5. Amend section 245.103-74 by removing “PGI 245.103-73” and adding “PGI 245.103-74” in its place.

PART 252—SOLICITATION PROVISIONS AND CONTRACT CLAUSES

252.211-7006 [Amended]

6. Amend section 252.211-7006 by—

a. Removing the clause date “(DEC 2017)” and adding “(MAR 2018)” in its place;

b. In paragraph (b)(1)(ii) introductory text, removing “http://www.acq.osd.mil/log/sci/RFID_ship-to-locations.html” and adding “https://www.acq.osd.mil/log/sci/RFID_ship-to-locations.html” in its place.

252.213-7000 [Amended]

7. Amend section 252.213-7000 by—

a. Revising the section heading.

b. In the clause title, removing “Past Performance Information Retrieval System—Statistical Reporting” and adding “Supplier Performance Risk System” in its place;

c. Removing the clause date “(JUN 2015)” and adding “(MAR 2018)” in its place;

d. In paragraph (a)—

i. Removing “Past Performance Information Retrieval System-Statistical Reporting (PPIRS-SR)” and adding “Supplier Performance Risk System (SPSR)” in its place; and

ii. Removing “http://www.ppirs.gov/” and adding “https://www.ppirssrng.csd.disa.mil/” in its place;

e. In paragraphs (b) and (c), removing “PPIRS-SR” and adding “SPRS” wherever it appears; and

f. In paragraph (d)—

i. Removing “PPIRS-SR” and adding “SPRS” wherever it appears;

ii. Removing “https://www.ppirs.gov/pdf/PPIRS-SR_UserMan.pdf” and adding “https://www.ppirssrng.csd.disa.mil/pdf/PPIRS-SR_UserMan.pdf” in its place; and

iii. Removing “https://www.ppirs.gov/pdf/PPIRS-SR_DataEvaluationCriteria.pdf” and adding “https://www.ppirssrng.csd.disa.mil/pdf/SPRS_DataEvaluationCriteria.pdf” in its place.

The revision reads as follows:

252.213-7000 Notice to Prospective Suppliers on Use of Supplier Performance Risk System in Past Performance Evaluations.

* * * * *

[FR Doc. 2018-05938 Filed 3-22-18; 8:45 am]

BILLING CODE 5001-06-P